DEPARTMENT OF THE INTERIOR

National Park Service

Notice of Inventory Completion: Slater Museum of Natural History, University of Puget Sound, Tacoma, WA

AGENCY: National Park Service, Interior.

ACTION: Notice.

Notice is here given in accordance with the Native American Graves Protection and Repatriation Act (NAGPRA), 25 U.S.C. 3003, of the completion of an inventory of human remains in the possession of the Slater Museum of Natural History, University of Puget Sound, Tacoma, WA. The human remains were removed from Malheur Lake, Harney County, OR.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Slater Museum of Natural History, University of Puget Sound professional staff and a consultant in consultation with representatives of the Burns Paiute Tribe of the Burns Paiute Indian Colony of Oregon and Klamath Tribes, Oregon.

In 1936, human remains representing a minimum of one individual were removed from near Malheur Lake, Harney County, OR, by Stanley G. Jewett. Mr. Jewett donated the human remains to the Slater Museum in 1955. No known individual was identified. No associated funerary objects are present.

The individual is most likely of Native American ancestry as indicated by morphological features. The geographical location where the human remains were recovered is consistent with the historically documented territory of the tribes now represented by the Burns Paiute Tribe of the Burns Paiute Indian Colony of Oregon. Furthermore, based on information provided during consultation with tribal representatives, there is a reasonable belief that the human remains share a common ancestry with members of tribes now represented by the Burns Paiute Tribe of the Burns Paiute Indian Colony of Oregon.

Officials of the Slater Museum of Natural History have determined that, pursuant to 25 U.S.C. 3001 (9-10), the human remains described above represent the physical remains of one individual of Native American ancestry. Officials of the Slater Museum of Natural History also have determined that, pursuant to 25 U.S.C. 3001 (2), there is a relationship of shared group identity that can be reasonably traced between the Native American human remains and the Burns Paiute Tribe of the Burns Paiute Indian Colony of Oregon.

Representatives of any other Indian tribe that believes itself to be culturally affiliated with the human remains should contact Dr. Peter Wimberger, Slater Museum of Natural History, 1500 N. Warner, Tacoma, WA 98416, (253) 879-2784, before February 14, 2008. Repatriation of the human remains to the Burns Paiute Tribe of the Burns Paiute Indian Colony of Oregon may proceed after that date if no additional claimants come forward.

The Slater Museum of Natural History is responsible for notifying the Burns Paiute Tribe of the Burns Paiute Indian Colony of Oregon and Klamath Tribes, Oregon that this notice has been published.

Dated: December 7, 2007
Sherry Hutt,
Manager, National NAGPRA Program.

[FR Doc. E8-559 Filed 1-14-08; 8:45 am]

BILLING CODE 4312-50-S